DEPARTMENT OF TRANSPORTATION

Federal Aviation Administration

14 CFR Part 39

[Docket No. FAA-2007-26864; Directorate Identifier 2006-NM-228-AD]

RIN 2120-AA64

Airworthiness Directives; Boeing Model 737-200, -300, -400, -500, -600, -700, -800, and -900 Series Airplanes; Boeing Model 757-200 and -300 Series Airplanes; and McDonnell Douglas Model DC-10-10, DC-10-10F, DC-10-30, DC-10-30F, DC-10-40, MD-10-30F, MD-11, and MD-11F Airplanes; Equipped With Reinforced Flight Deck Doors Installed in Accordance With Supplemental Type Certificate (STC) ST01335LA, STC ST01334LA, and STC ST01391LA, Respectively

AGENCY: Federal Aviation Administration (FAA), Department of Transportation (DOT).

ACTION: Notice of proposed rulemaking (NPRM).

SUMMARY: The FAA proposes to supersede an existing airworthiness directive (AD) that applies to certain transport category airplanes identified above. The existing AD currently requires modification of the reinforced flight deck door and other actions related to the reinforced flight deck door. Those other actions include modifying the door, inspecting and modifying wiring in the area, and revising the maintenance program to require more frequent testing of the decompression panels of the flight deck door. This proposed AD would add airplanes to the existing requirement of a one-time inspection for chafing of wire bundles in the area of the flight deck door and corrective actions if necessary. This proposed AD would remove certain airplanes from the applicability. This proposed AD results from a report of smoke and fumes in the cockpit of a Model 737-300 series airplane. We are proposing this AD to prevent inadvertent release of the decompression latch and consequent opening of the decompression panel in the flight deck door, or penetration of the flight deck door by smoke or shrapnel, any of which could result in injury to the airplane flightcrew. We are also proposing this AD to detect and correct wire chafing, which could result in arcing, fire, and/or reduced controllability of the airplane.

DATES: We must receive comments on this proposed AD by March 5, 2007.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Boeing Commercial Airplanes, P.O. Box 3707, Seattle, Washington 98124-2207; Boeing Commercial Airplanes, Long Beach Division, 3855 Lakewood Boulevard, Long Beach, California 90846, Attention: Data and Service Management, Dept. C1-L5A (D800-0024); or C&D Aerospace, 5701 Bolsa Avenue, Huntington Beach, California 92647-2063; for service information identified in this proposed AD.

FOR FURTHER INFORMATION CONTACT: Ron Atmur, Aerospace Engineer, Airframe Branch, ANM-120L, FAA, Los Angeles Aircraft Certification Office, 3960 Paramount Boulevard, Lakewood, California 90712-4137; telephone (562) 627-5224; fax (562) 627-5210.

SUPPLEMENTARY INFORMATION:

Comments Invited

We invite you to submit any relevant written data, views, or arguments regarding this proposed AD. Send your comments to an address listed in the ADDRESSES section. Include the docket number “Docket No. FAA-2007-26864; Directorate Identifier 2006-NM-228-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

On May 26, 2005, we issued AD 2005-12-05, amendment 39-14121 (70 FR 37152, June 28, 2005). That AD applies to certain Boeing Model 737-200, -300, -400, -500, -600, -700, -800, and -900 series airplanes; Boeing Model 757-200 and -300 series airplanes; and McDonnell Douglas Model DC-10-10, DC-10-10F, DC-10-30, DC-10-30F, DC-10-40, MD-10-10F, MD-10-30F, MD-11, and MD-11F airplanes. That AD requires modification of the reinforced flight deck door and other actions related to the reinforced flight deck door. Those other actions include modifying the door, inspecting and modifying wiring in the area, and revising the maintenance program to require more frequent testing of the decompression panels of the flight deck door. That AD resulted from reports of discrepancies with the reinforced flight deck door. We issued that AD to prevent inadvertent release of the decompression latch and consequent opening of the decompression panel in the flight deck door, or penetration of the flight deck door by smoke or shrapnel, any of which could result in injury to the airplane flightcrew. That AD also requires finding and fixing wire chafing, which could result in arcing, fire, and/or reduced controllability of the airplane.

Actions Since Existing AD Was Issued

Since we issued AD 2005-12-05, we have received a report indicating that a Boeing Model 737-300 series airplane was forced to turn back to the airport ten minutes after departure, due to smoke and fumes in the cockpit of the airplane. Investigation revealed that the incident was caused by a certain wire, aft of the overhead P5 panel of the cockpit, chafing against a bracket for a certain plug disconnect, which had been installed during modification of the flight deck door lock in accordance with Supplemental Type Certificate (STC) ST01335LA. Chafing of wiring in the area of the flight deck door, if not corrected, could result in arcing, fire, and/or reduced controllability of the airplane. Previously, we addressed this unsafe condition in paragraph (m)(2) of AD 2005-12-05 for Model 737-200 series airplanes equipped with flight deck door assembly part number (P/N) B221001. That paragraph refers to C&D Aerospace Alert Service Bulletin B221001-52A02, dated November 5, 2002, as the appropriate source of service information for doing a general visual inspection for chafing of wire bundles in the area of the flight deck door and doing corrective actions if necessary. (Boeing Model 737-300, -400, and -500 series airplanes are included in the effectivity of C&D Aerospace Alert Service Bulletin B221001-52A02.) We have determined that the same unsafe condition also exists on Model 737-300, -400, and -500 series airplanes equipped with reinforced flight deck door assembly P/N B221001. Since Model 737-300, -400, and -500 series airplanes were included in the applicability of AD 2005-12-05, this proposed AD does not expand the applicability. Rather, this proposed AD would require additional action on those airplanes to adequately address the unsafe condition.

We inadvertently included McDonnell Douglas Model MD-10-10F airplanes in the applicability of AD 2005-12-05. The affected reinforced flight deck doors are not approved for installation on Model MD-10-10F airplanes under any STC. Therefore, we have removed those airplanes from the applicability of this proposed AD.

FAA's Determination and Requirements of the Proposed AD

We have evaluated all pertinent information and identified an unsafe condition that is likely to develop on other products of the same type design. For this reason, we are proposing this AD, which would supersede AD 2005-12-05 and would retain the requirements of the existing AD. For Model 737-300, -400, and -500 series airplanes, this proposed AD would also require accomplishing the actions specified in C&D Aerospace Alert Service Bulletin B221001-52A02, dated November 5, 2002, except as discussed under “Difference Between the Proposed AD and Service Bulletin.”

Difference Between the Proposed AD and Service Bulletin

Although C&D Aerospace Alert Service Bulletin B221001-52A02 describes procedures for installing a placard to show that the service bulletin has been accomplished, this proposed AD does not require that action. We have revised paragraph (m)(2) of the proposed AD to exclude that action.

Costs of Compliance

There are about 3,423 airplanes of the affected design in the worldwide fleet. For the new proposed action, there are about 1,047 Model 737-300, -400, and -500 series airplanes of the affected design in the worldwide fleet. The following table provides the estimated costs, at an average labor rate of $80 per work hour, for U.S. operators to comply with this proposed AD.

Estimated Costs
Action | Model | Work hours | Parts | Cost per airplane | Number of U.S.-registered airplanes | Fleet cost
Modification in paragraph (f) of the proposed AD (required by AD 2005-12-05) | 737-200, -300, -400, -500, -600, -700, -800, and -900 series airplanes, with flight deck door assembly P/N B221001 | 1 | ¹ $0 | $80 | 1,040 | $83,200
| 757-200 and -300 series airplanes, with flight deck door assembly P/N B231001 | 2 | ¹ 0 | 160 | 519 | 83,040
| DC-10-10F, DC-10-30, DC-10-30F, DC-10-40, MD-10-30F, MD-11, and MD-11F airplanes, with flight deck door assembly P/N B211200 | 2 | ¹ 0 | 160 | 21 | 3,360
Revision in paragraph (i) of the proposed AD (required by AD 2005-12-05) | 757-200 and -300 series airplanes | 1 | None | 80 | 651 | 52,080
| 737-200, -300, -400, -500, -600, -700, -800, and -900 series airplanes; and 757-200 and -300 series airplanes; with flight deck door assembly P/N B221200 | 1 | ¹ 0 | 80 | 1,673 | 133,840
Modification in paragraph (j) of the proposed AD (required by AD 2005-12-05) | DC-10-10, DC-10-10F, DC-10-30, DC-10-30F, DC-10-40, MD-10-30F, MD-11, and MD-11F airplanes, with flight deck door assembly P/N B211200 | 1 | ¹ 0 | 80 | 155 | 12,400
| MD-11 and MD-11F airplanes, with flight deck door assembly P/N B251200 | 1 | ¹ 0 | 80 | 6 | 480
Wiring rework in paragraph (m)(1) of the proposed AD (required by AD 2005-12-05) | 737-200 series airplanes, with flight deck door assembly P/N B221001 | 1 | None | 80 | 134 | 10,720
Inspection in paragraph (m)(2) of the proposed AD (required by AD 2005-12-05) | 737-200 series airplanes, with flight deck door assembly P/N B221001 | 2 | None | 160 | 134 | 21,440
Inspection in paragraph (o) of the proposed AD (new proposed action) | 737-300, -400, -500 series airplanes, with flight deck door assembly P/N B221001 | 2 | None | 160 | 529 | 84,640
¹ The parts manufacturer states that it will supply required parts to operators at no cost.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14121 (70 FR 37152, June 28, 2005) and adding the following new airworthiness directive (AD):

Boeing and McDonnell Douglas: Docket No. FAA-2007-26864; Directorate Identifier 2006-NM-228-AD.

Comments Due Date

(a) The FAA must receive comments on this AD action by March 5, 2007.

Affected ADs

(b) This AD supersedes AD 2005-12-05.

Applicability

(c) This AD applies to airplanes identified in Table 1 of this AD, certificated in any category.

Table 1.—Applicability
Airplane manufacturer | Airplane model | Equipped with C&D Zodiac, Inc. reinforced flight deck doors installed in accordance with Supplemental Type Certificate (STC)
Boeing | 737-200, -300, -400, -500, -600, -700, -800, and -900 series airplanes | ST01335LA.
Boeing | 757-200 and -300 series airplanes | ST01334LA.
McDonnell Douglas | DC-10-10, DC-10-10F, DC-10-30, DC-10-30F, DC-10-40, MD-10-30F, MD-11, and MD-11F airplanes | ST01391LA.

Unsafe Condition

(d) This AD results from a report of smoke and fumes in the cockpit of a Model 737-300 series airplane. We are issuing this AD to prevent inadvertent release of the decompression latch and consequent opening of the decompression panel in the flight deck door, or penetration of the flight deck door by smoke or shrapnel, any of which could result in injury to the airplane flightcrew. We are also issuing this AD to detect and correct wire chafing, which could result in arcing, fire, and/or reduced controllability of the airplane.

Compliance

(e) You are responsible for having the actions required by this AD performed within the compliance times specified, unless the actions have already been done.

Restatement of Requirements of AD 2005-12-05

Note 1: Where there are differences between this AD and the referenced service bulletins, this AD prevails.

Modification

(f) For airplanes listed in Table 2 of this AD: Within 90 days after July 25, 2003 (the effective date of AD 2003-14-04, amendment 39-13223), modify the reinforced flight deck door according to paragraph (f)(1), (f)(2), or (f)(3) of this AD, as applicable. (AD 2003-14-04 was superseded by AD 2005-12-05.)

Table 2.—Airplane Models Subject to Requirements of AD 2003-14-04
Airplane manufacturer | Airplane models | Identified in C&D Aerospace Service Bulletin
Boeing | 737-200, -300, -400, -500, -600, -700, -800, and -900 series airplanes | B221001-52-03, Revision 3, dated March 25, 2003.
Boeing | 757-200 and -300 series airplanes | B231001-52-02, Revision 4, dated March 19, 2003.
McDonnell Douglas | DC-10-10F, DC-10-30, DC-10-30F, DC-10-40, MD-10-30F, MD-11, and MD-11F airplanes | B211200-52-02, Revision 1, dated June 3, 2003.

(1) For Boeing Model 737-200, -300, -400, -500, -600, -700, -800, and -900 series airplanes: Modify the upper and lower pressure relief latch assemblies on the flight deck door by doing all actions specified in and according to paragraphs 3.A., 3.B., and 3.C. of the Accomplishment Instructions of C&D Aerospace Service Bulletin B221001-52-03, Revision 3, dated March 25, 2003. One latch strap should be installed at the bottom of the upper pressure relief assembly, and a second latch strap should be installed at the top of the lower pressure relief assembly. When properly installed, the strap should cover a portion of the latch hook.

(2) For Boeing Model 757-200 and -300 series airplanes: Modify the upper and lower pressure relief latch assemblies on the flight deck door by doing all actions specified in and according to paragraphs 3.A., 3.B., and 3.C. of the Accomplishment Instructions of C&D Aerospace Service Bulletin B231001-52-02, Revision 4, dated March 19, 2003. One latch strap should be installed at the bottom of the upper pressure relief assembly, and a second latch strap should be installed at the top of the lower pressure relief assembly. When properly installed, the strap should cover a portion of the latch hook.

(3) For McDonnell Douglas DC-10-10F, DC-10-30, DC-10-30F, DC-10-40, MD-10-30F, MD-11, and MD-11F airplanes: Install spacers in the upper and lower pressure relief latch assemblies of the flight deck door, by doing all actions specified in and according to paragraphs 3.A., 3.C., and 3.D. of C&D Aerospace Service Bulletin B211200-52-02, Revision 1, dated June 3, 2003; or Revision 2, dated September 29, 2003.

Modifications Accomplished Per Previous Issues of Service Bulletin

(g) For airplanes listed in Table 2 of this AD: Modifications accomplished before July 25, 2003, in accordance with a service bulletin listed in paragraph (g)(1), (g)(2), or (g)(3) of this AD; as applicable; are considered acceptable for compliance with the corresponding action specified in paragraph (f) of this AD.

(1) For Boeing Model 737-200, -300, -400, -500, -600, -700, -800, and -900 series airplanes: C&D Aerospace Service Bulletin B221001-52-03, dated December 6, 2002; Revision 1, dated January 2, 2003; or Revision 2, dated February 20, 2003.

(2) For Boeing Model 757-200 and -300 series airplanes: C&D Aerospace Service Bulletin B231001-52-02, dated December 6, 2002; Revision 1, dated January 2, 2003; Revision 2, dated February 20, 2003; or Revision 3, dated March 7, 2003.

(3) For McDonnell Douglas DC-10-10F, DC-10-30, DC-10-30F, DC-10-40, MD-10-30F, MD-11, and MD-11F airplanes: C&D Aerospace Service Bulletin B211200-52-02, dated April 30, 2003.

Parts Installation

(h) As of July 25, 2003, no person may install, on any airplane, a reinforced flight deck door having any part number (P/N) listed in paragraph 1.A. of C&D Aerospace Service Bulletin B221001-52-03, Revision 3, dated March 25, 2003; B231001-52-02, Revision 4, dated March 19, 2003; or B211200-52-02, Revision 1, dated June 3, 2003; as applicable; unless the door has been modified as required by paragraph (f) of this AD.

Model 737 and 757 Series Airplanes: Revise Maintenance Program

(i) For Boeing Model 737-200, -300, -400, -500, -600, -700, -800, and -900 series airplanes; and Model 757-200 and -300 series airplanes: Within 6 months after July 19, 2005 (the effective date of AD 2005-12-05), revise the FAA-approved maintenance inspection program to include the information specified in C&D Aerospace Report CDRB22-69, Revision E, dated November 8, 2002.

Modifications to Flight Deck Door

(j) Modify the reinforced flight deck door by doing all applicable actions specified in the applicable service bulletin listed in Table 3 of this AD at the applicable compliance time specified in that table. Where the applicable service bulletin includes an instruction to install a placard to show that the service bulletin has been accomplished, this AD does not require that action.

Table 3.—New Modifications to the Flight Deck Door
For these Models— | Equipped with a flight deck door assembly having this P/N— | Within this compliance time after July 19, 2005— | Do all actions in the Accomplishment Instructions of—
McDonnell Douglas Model DC-10-10, DC-10-10F, DC-10-30, DC-10-30F, DC-10-40, MD-10-30F, MD-11, and MD-11F airplanes | B211200 | 6 months | C&D Aerospace Service Bulletin B211200-52-01, Revision 3, dated September 18, 2003.
McDonnell Douglas Model MD-11 and MD-11F airplanes | B251200 | 6 months | C&D Aerospace Service Bulletin B251200-52-01, dated April 30, 2003.
Boeing Model 737-200, -300, -400, -500, -600, -700, -800, and -900 series airplanes; and Model 757-200 and -300 series airplanes | B221200 | 18 months | C&D Aerospace Service Bulletin B221200-52-01, Revision 1, dated June 27, 2003.
Boeing Model 737-200, -300, -400, -500, -600, -700, -800, and -900 series airplanes | B221001 | 18 months | C&D Aerospace Service Bulletin B221001-52-03, Revision 3, dated March 25, 2003; except as provided by paragraph (k) of this AD.
Boeing Model 757-200 and -300 series airplanes | B231001 | 18 months | C&D Aerospace Service Bulletin B231001-52-02, Revision 4, dated March 19, 2003; except as provided by paragraph (k) of this AD.
McDonnell Douglas DC-10-10, DC-10-10F, DC-10-30, DC-10-30F, DC-10-40, MD-10-30F, MD-11, and MD-11F airplanes | B211200 | 18 months | C&D Aerospace Service Bulletin B211200-52-02, Revision 1, dated June 3, 2003; or Revision 2, dated September 29, 2003; except as provided by paragraph (k) of this AD.

(k) For airplanes subject to paragraph (f) of this AD: Actions required by paragraph (f) of this AD that were done within the compliance time specified in paragraph (f) of this AD do not need to be repeated in accordance with paragraph (j) of this AD.

Modifications Accomplished Per Previous Issues of Service Bulletin

(l) Modifications accomplished before July 19, 2005, in accordance with an applicable service bulletin listed in Table 4 of this AD are considered acceptable for compliance with the corresponding action specified in paragraph (j) of this AD.

Table 4.—Acceptable Service Information for Previous Modifications
Service Bulletin | Revision level | Date
C&D Aerospace Service Bulletin B211200-52-01 | Original | February 27, 2003.
C&D Aerospace Service Bulletin B211200-52-01 | 1 | March 7, 2003.
C&D Aerospace Service Bulletin B211200-52-01 | 2 | June 3, 2003.
C&D Aerospace Service Bulletin B211200-52-02 | Original | April 30, 2003.
C&D Aerospace Service Bulletin B221001-52-03 | Original | December 6, 2002.
C&D Aerospace Service Bulletin B221001-52-03 | 1 | January 2, 2003.
C&D Aerospace Service Bulletin B221001-52-03 | 2 | February 20, 2003.
C&D Aerospace Service Bulletin B221200-52-01 | Original | April 30, 2003. | C&D Aerospace Service Bulletin B231001-52-02 | Original | December 6, 2002.
C&D Aerospace Service Bulletin B231001-52-02 | 1 | January 2, 2003.
C&D Aerospace Service Bulletin B231001-52-02 | 2 | February 20, 2003.
C&D Aerospace Service Bulletin B231001-52-02 | 3 | March 7, 2003.

Model 737-200 Series Airplanes: Wiring Modification/Inspection

(m) For Boeing Model 737-200 series airplanes equipped with flight deck door assembly P/N B221001: Within 18 months after July 19, 2005, do paragraphs (m)(1) and (m)(2) of this AD.

(1) Rework the wiring for the flight deck door to relocate a power wire for the flight deck door, in accordance with the Accomplishment Instructions of C&D Aerospace Alert Service Bulletin B221001-52A05, Revision 3, dated October 3, 2003. Actions accomplished before July 19, 2005, in accordance with C&D Aerospace Alert Service Bulletin B221001-52A05, dated April 17, 2003; Revision 1, dated May 14, 2003; or Revision 2, dated June 19, 2003; are acceptable for compliance with the corresponding action required by this paragraph.

(2) Perform a general visual inspection for chafing of wire bundles in the area of the flight deck door and applicable corrective actions by doing all of the actions in the Accomplishment Instructions of C&D Aerospace Alert Service Bulletin B221001-52A02, dated November 5, 2002; except where the service bulletin specifies installing a placard, this AD does not require that action. Any applicable corrective actions must be done before further flight.

Note 2: For the purposes of this AD, a general visual inspection is “a visual examination of a interior or exterior area, installation or assembly to detect obvious damage, failure or irregularity. This level of inspection is made from within touching distance unless otherwise specified. A mirror may be necessary to ensure visual access to all surfaces in the inspection area. This level of inspection is made under normal available lighting conditions such as daylight, hangar lighting, flashlight or drop-light and may require removal or opening of access panels or doors. Stands, ladders or platforms may be required to gain proximity to the area being checked.”

Parts Installation

(n) As of July 19, 2005, no person may install a reinforced flight deck door under any STC listed in Table 1 of this AD, on any airplane, unless all applicable requirements of this AD have been done on the door.

New Requirements of This AD

Inspection and Corrective Actions if Necessary for Certain Airplanes

(o) For Boeing Model 737-300, -400, and -500 series airplanes equipped with flight deck door assembly P/N B221001: Within 18 months after the effective date of this AD, do the actions specified in paragraph (m)(2) of this AD.

Alternative Methods of Compliance (AMOCs)

(p)(1) The Manager, Los Angeles Aircraft Certification Office, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

(3) AMOCs approved previously in accordance with AD 2005-12-05 are approved as AMOCs for the corresponding provisions of this AD.

Issued in Renton, Washington, on December 26, 2006.
Ali Bahrami,
Manager, Transport Airplane Directorate, Aircraft Certification Service.

[FR Doc. E7-708 Filed 1-18-07; 8:45 am]

BILLING CODE 4910-13-P